DEPARTMENT OF COMMERCE

Membership of the Performance Review Board for EDA, NTIA, BIS and MBDA

AGENCY: Economic Development Administration (EDA), National Telecommunications and Information Administration (NTIA), Bureau of Industry and Security (BIS), Minority Business Development Agency (MBDA), Department of Commerce.

ACTION: Notice of membership on the EDA, NTIA, BIS and MBDA's Performance Review Board.

SUMMARY: The EDA, NTIA, BIS and MBDA, Department of Commerce (DOC), announce the appointment of those individuals who have been selected to serve as members of the Performance Review Board. The Performance Review Board is responsible for reviewing performance appraisals and ratings of Senior Executive Service (SES) members and Senior Level (SL) members and making recommendations to the appointing authority on other performance management issues, such as pay adjustments, bonuses and Presidential Rank Awards for SES and SL members. The appointment of these members to the Performance Review Board will be for a period of twenty-four (24) months.

DATES: The period of appointment for those individuals selected for EDA, NTIA, BIS and MBDA's Performance Review Board begins on October 22, 2021.

FOR FURTHER INFORMATION CONTACT: Christine Covington, U.S. Department of Commerce, Office of Human Resources Management, Office of Executive Resources, 14th and Constitution Avenue NW, Room 50013, Washington, DC 20230, at (202) 482-2613.

SUPPLEMENTARY INFORMATION: In accordance with 5 U.S.C. 4314(c)(4), the EDA, NTIA, BIS, and MBDA, Department of Commerce (DOC), announce the appointment of those individuals who have been selected to serve as members of EDA, NTIA, BIS and MBDA's Performance Review Board. The Performance Review Board is responsible for (1) reviewing performance appraisals and ratings of Senior Executive Service (SES) and Senior Level (SL) members and (2) making recommendations to the appointing authority on other Performance management issues, such as pay adjustments, bonuses and Presidential Rank Awards for SES and SL members. The Appointment of these members to the Performance Review Board will be for a period of twenty-four (24) months:

The name, position title, and type of appointment of each member of the Performance Review Board are set forth below:

1. Department of Commerce, Bureau of Industry and Security (BIS), Matthew Borman Deputy Assistant Secretary for Export Administration, Career SES

2. Department of Commerce, National Telecommunications and Information Administration (NTIA), Margaret Mitchell, Chief Financial Officer and Director of Administration, Career SES

3. Department of Commerce, Economic Development Agency (EDA), Michele Chang, Deputy Assistant Secretary for Policy, Non-Career SES

4. Department of Commerce, National Telecommunications and Information Administration (NTIA), Scott Palmer, Chief Procurement Officer, First Responder Network Authority, Career SES

5. Department of Commerce, Minority Business Development Agency (MBDA), Edith McCloud, Associate Director for Management, Career SES

6. Department of Commerce, Office of the Secretary (OS), Laura O'Neil, Director, Office of Public Engagement, Non-Career SES

7. Department of Commerce, Bureau of Industry and Security (BIS), Eileen Albanese, Director Office of National Security and Technology Transfer Controls, Career SES

8. Department of Commerce, Bureau of Industry and Security (BIS), John Sonderman, Director, Office of Export Enforcement, Career SES

Dated: October 19, 2021.
Christine Covington,
Human Resources Specialist, Office of Executive Resources, Office of Human Resources Management.

[FR Doc. 2021-23053 Filed 10-21-21; 8:45 am]

BILLING CODE 3510-DS-P